DEPARTMENT OF JUSTICE

Immigration and Naturalization Service

8 CFR Parts 212, 236, and 241

[INS No. 2029-00; AG Order No. 2310-2000]

RIN 1115-AF82

Detention of Aliens Ordered Removed

AGENCY: Immigration and Naturalization Service, Justice.

ACTION: Proposed rule; extension of comment period.

SUMMARY: On June 30, 2000, at 65 FR 40540, the Immigration and Naturalization Service published a proposed rule in the Federal Register, to provide a uniform review process governing the detention of criminal, inadmissible, and other aliens, excluding Mariel Cubans, who have received a final order but whose departure has not been effected within the 90-day removal period. To ensure that the public has ample opportunity to fully review and comment on the proposed rule, this notice extends the public comment period from July 31, 2000, through August 11, 2000.

DATES: Written comments must be submitted on or before August 11, 2000.

ADDRESSES: Please submit written comments, in triplicate, to the Director, Policy Directives and Instructions Branch, Immigration and Naturalization Service, 425 I Street, NW., room 4034, Washington, DC 20536. To ensure proper handling, please reference INS No. 2029-00 on your correspondence.

FOR FURTHER INFORMATION CONTACT: Joan S. Lieberman, Office of the General Counsel, Immigration and Naturalization Service, 425 I Street, NW., room 6100, Washington, DC 20536, telephone 202-514-1932.

Dated: July 27, 2000.
Doris Meissner,
Commissioner, Immigration and Naturalization Service.

[FR Doc. 00-19412 Filed 7-28-00; 8:45 am]

BILLING CODE 4410-10-P